DEPARTMENT OF TRANSPORTATION

Pipeline and Hazardous Materials Safety Administration

49 CFR Part 192

[Docket No. PHMSA-05-21305; Notice 1]

Pipeline Safety: Use of Polyamide-11 Plastic Pipe in Gas Pipelines

AGENCY: Office of Pipeline Safety, Pipeline and Hazardous Materials Safety Administration, DOT.

ACTION: Request for comments.

SUMMARY: The Office of Pipeline Safety (OPS) seeks public comments on two petitions for rulemaking filed by Arkema, Inc. The petitions request changes to the gas pipeline safety regulations to increase the design factor for new polyamide—11 (PA-11) pipe and to allow use of PA-11 pipe for systems operating at up to 200 pounds per square inch gauge pressure (psig). These requested changes will allow the use of PA-11 pipe in gas pipelines in place of metal pipe.

DATES: Interested persons are invited to submit written comments by August 22, 2005. Late-filed comments will be considered to the extent practicable.

ADDRESSES: You may submit written comments to the docket by any of the following methods:

• Mail: Dockets Facility, U.S. Department of Transportation, Room PL-401, 400 Seventh Street, SW., 20590-0001. Anyone wanting confirmation of mailed comments must include a self-addressed stamped postcard.

• Hand delivery or courier: Room PL-401, 400 Seventh Street, SW., Washington DC. The Dockets Facility is open from 9 a.m. to 5 p.m., Monday through Friday, except Federal Holidays.

• Web site: Go to http://dms.dot.gov, click on “Comments/Submissions” and follow the instructions at the site.

All written comments should identify the docket number and notice number stated in the heading of this notice.

Docket access: For copies of this notice or other material in the docket, you may contact the Dockets Facility by phone (202-366-9329) or visit the facility at the above street address. For Web access to the dockets to read and download filed material, go to http://dms.dot.gov/search. Then type in the last four digits of the docket number shown in the heading of this notice, and click on “Search''.

Anyone can search the electronic form of all comments filed in any of our dockets by the name of the individual submitting the comment (or signing the comment, if submitted for an association, business, labor union, etc.). You may review DOT's complete Privacy Act Statement in the April 11, 2000 issue of the Federal Register (65 FR 19477) or go to http://dms.dot.gov.

FOR FURTHER INFORMATION CONTACT: Richard Sanders (tel: 405-954-7214; E-mail: Richard.Sanders@tsi.jccbi.gov). General information about our pipeline safety program is available at this Web address: http://ops.dot.gov.

To view the petition, comments, and other material in the docket, go to http://dms.dot.gov at any time and conduct a simple search using the docket number. You may also visit the Dockets Facility at the address under ADDRESSES.

SUPPLEMENTARY INFORMATION: On October 4, 2004, Arkema, Inc. submitted two petitions to the Pipeline and Hazardous Material Safety Administration's Office of Pipeline Safety. Arkema's petitions request that DOT revise 49 CFR 192.121 and 192.123 by increasing the design factor and the design pressure for PA-11 to allow the use of a PA-11 piping system at pressures up to 200 psig. Under the proposal, the design factor for PA-11 would be raised from 0.32 to 0.40, which would allow for a greater operating pressure. The operating pressure limit for 2-inch diameter pipes of this material would also be raised from 100 psig to 200 psig, to allow these pipe systems to be operated up to the pressure limit determined by the design factor.

Arkema asserts that pipelines with the new PA-11 material will pose less risk to the public at a design factor of 0.40 than older thermoplastic piping materials used with a 0.32 design factor and that allowing an increased design pressure will allow gas companies to replace metal piping systems with 2-inch plastic pipe operating up to 200 psig to avoid the risk of corrosion failure in steel pipes. A detailed technical justification, including performance test results for PA-11 pipe and a discussion of its history of use, is provided in the petition, which may be read in its entirety in the docket.

With this notice, OPS is seeking further information and inviting public comment on the performance of the PA-11 pipe and a potential increase in the design factor and the design pressure for new thermoplastic piping. OPS will consider Arkema Inc.'s petition, any comments received by the public, and other information to determine whether or not to initiate rulemaking.

Issued in Washington, DC, on June 15, 2005.
Joy Kadnar,
Director of Engineering and Emergency Support.

[FR Doc. 05-12356 Filed 6-21-05; 8:45 am]

BILLING CODE 4910-60-P